DEPARTMENT OF TRANSPORTATION

Federal Aviation Administration

Agency Information Collection Activities: Requests for Comments; Clearance of Approval for Renewal and Revision of Information Collection: High Density Traffic Airports: Slot Allocation and Transfer Methods

AGENCY: Federal Aviation Administration (FAA), DOT.

ACTION: Notice and request for comments.

SUMMARY: In accordance with the Paperwork Reduction Act of 1995, FAA invites public comments about our intention to request the Office of Management and Budget (OMB) approval for renewal and revision to an information collection. The Federal Register Notice with a 60-day comment period soliciting comments on the following collection of information was published on March 30, 2018. This information collection is used to allocate airport landing and takeoff slots and maintain accurate records of slot transfers at Ronald Reagan Washington National Airport (DCA) under the High Density Rule. The FAA is requesting a renewal for the DCA information collection and a revision to include six additional airports managed under similar FAA programs to manage congestion and delay: John F. Kennedy International Airport (JFK), LaGuardia Airport (LGA), Los Angeles International Airport (LAX), Newark Liberty International Airport (EWR), O'Hare International Airport (ORD), and San Francisco International Airport (SFO). The information collection is required from carriers and other operators at the airports to assist the FAA in reducing delays at congested airports.

DATES: Written comments should be submitted by June 29, 2018.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street NW, Washington, DC 20503.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

FOR FURTHER INFORMATION CONTACT: Barbara Hall at (940) 594-5913, or by email at: Barbara.L.Hall@faa.gov.

SUPPLEMENTARY INFORMATION:

OMB Control Number: 2120-0524.

Title: High Density Traffic Airports: Slot Allocation and Transfer Methods.

Form Numbers: There are no FAA forms associated with this information collection.

Type of Review: Renewal and revision of an information collection.

Background: The Federal Register Notice with a 60-day comment period soliciting comments on the following collection of information was published on March 30, 2018 (83 FR 13809). Information is reported to the FAA by air carriers or other persons holding slots at DCA in accordance with 14 CFR part 93, subparts K and S. The respondents must notify the FAA of: (1) Requests for confirmation of transferred slots; (2) slots required to be returned or slots voluntarily returned; (3) requests to be included in a lottery for available slots; (4) usage of slots on a bi-monthly basis; and (5) requests for off-peak hour slots. The FAA uses this information to allocate and withdraw takeoff and landing slots at DCA, and to confirm transfers of slots made among the operators, thus maintaining an accurate slot base at DCA. Information also is reported by persons conducting unscheduled operations at DCA. Those respondents must obtain a reservation from the FAA prior to operating at the airport.

The revision to the existing information collection approval would include information from carriers holding a slot at JFK or LGA and by unscheduled operators at LGA as required under FAA Orders establishing limits on operations at those airports.¹ Information would also be provided by carriers operating scheduled flights at EWR, LAX, ORD, and SFO where the FAA has established a voluntary process to review flight schedules consistent with international, industry practices. At JFK, carriers must notify the FAA of: (1) Requests for confirmation of transferred slots; (2) requests for seasonal allocation of historic and additional available slots consistent with Worldwide Slot Guidelines; (3) usage of slots on a seasonal basis; (4) the return of slots; and (5) changes to allocated slots. At LGA, carriers must notify the FAA of: (1) Requests for confirmation of transferred slots; (2) compulsory or voluntary slot returns; (3) requests to be included in a lottery for available slots; and (4) usage of slots on a bi-monthly basis. At LGA, unscheduled operators must request and obtain a reservation from the FAA prior to conducting an operation. At EWR, LAX, ORD and SFO, carriers are asked to notify the FAA of their intended operating schedules during peak hours for each summer and winter scheduling season and when there are significant schedule changes.

¹ Operating Limitations at John F. Kennedy International Airport, 73 FR 3510 (Jan. 18, 2008), as most recently amended 81 FR 40167 (Jun. 21, 2016). Operating Limitations at New York LaGuardia Airport, 71 FR 77854 (Dec. 27, 2006), as most recently amended 81 FR 33126 (May 25, 2016).

Respondents: 140 carriers at various airports; unknown number of operators with unscheduled flights at DCA and LGA.

Frequency: Schedule requests are collected semiannually and additionally as needed due to carrier changes; slot usage information is reported four to six times per year depending on the airport; other slot and schedule data are collected as needed.

Estimated Average Burden per Response: 6 minutes per slot transfer; 6 minutes per slot return; 6 minutes per schedule update; 6 minutes per request for inclusion in a lottery; 2 minutes per unscheduled slot request; 1.5 hours per schedule submission; and 1 hour per slot usage report.

Estimated Total Annual Burden: 5,367 hours.

Issued in Washington, DC, on May 23, 2018.
Jonathan Haupt,
Acting Manager, IT Strategy and Investment Portfolio Branch, ASP-120.

[FR Doc. 2018-11569 Filed 5-29-18; 8:45 am]

BILLING CODE 4910-13-P